DEPARTMENT OF HEALTH AND HUMAN SERVICES

National Committee on Vital and Health Statistics: Visioning Session

Pursuant to the Federal Advisory Committee Act, the Department of Health and Human Services (HHS) announces the following advisory committee program.

Name: National Committee on Vital and Health Statistics (NCVHS), Subcommittee on Standards.

Date and Times: Wednesday, July 10, 2019: 9:00 a.m.-5:00 p.m. (EDT), Thursday, July 11, 2019: 8:30 a.m.-5:00 p.m. (EDT).

Place: U.S. Department of Health and Human Services, Hubert H. Humphrey Building, 200 Independence Avenue SW, Rm. 505-A, Washington, DC 20201.

Status: Open. There will be a public comment period during the final 15 minutes of the first day of the meeting.

Purpose: Health Insurance Portability and Accountability Act (HIPAA) legislation from 1996, as amended,¹ established a regulatory framework to support the exchange of electronic information between covered entities, and directed the Secretary of Health and Human Services (HHS) to publish regulations adopting standards, code sets, and unique identifiers. The administrative simplification provisions of HIPAA pertain to retail pharmacy and medical transactions, such as eligibility, claims, payment, enrollment, and authorizations.

¹ Along with Section 1104 (c) of the Patient Protection and Affordable Care Act (ACA) of 2010.

NCVHS advises the HHS Secretary on health data, statistics, privacy, national health information policy, and is mandated to report to Congress on the implementation status of HIPAA. Since mid-2017, the Subcommittee on Standards has been focused on developing a “predictability roadmap” through collaboration with industry to identify and evaluate barriers to the efficient and timely update and adoption of standards and operating rules. NCVHS sought to identify and understand the challenges under the current standards development and regulatory processes. Based on feedback the Committee obtained from stakeholders over an eighteen-month period, in February 2019 the Committee delivered five recommendations to the HHS Secretary supporting the industry's need for trusted cadence to improve the updates, adoption and implementation of transaction standards and operating rules to keep pace with innovative business needs and technology changes. The five recommendations represented actionable steps for adopting, implementing, and enforcing the administrative simplification provisions of HIPAA.

One recommendation was specific to certain entities and processes related to the maintenance, modification, and recommendations to the Secretary for updated and new standards or transactions. Regarding this process, NCVHS urged HHS “to re-evaluate the function and purpose of the Designated Standards Maintenance Organizations (DSMO).”

In the HIPAA Transaction and Code Sets final rule of August 2000 (65 FR 50312), the Secretary named the six DSMOs. After the publication of the final rule, the six organizations and the Secretary of HHS signed a Memorandum of Understanding (MOU) establishing a steering committee and formalizing the processes for reviewing updated or new standards in advance of a recommendation to NCVHS and the Secretary.

Between 2001 and 2004, the DSMO steering committee received more than 150 change requests. Today, the DSMO receives fewer than 10 change requests per year. The DSMO appears to have accomplished the purposes for which it was established.

To support future work the HHS Secretary may undertake regarding the NCVHS recommendation to re-evaluate the DSMO, the Subcommittee will conduct a facilitated visioning session with a group of industry stakeholders. The goal of this session is to develop a set of viable options for a next-generation DSMO.

Following the meeting, the Subcommittee plans to draft additional recommendations for the full Committee to consider for submission to the HHS Secretary. These recommendations will take into account the input received during the facilitated visioning session.

The times and topic for this meeting are subject to change. Participation in the visioning session will be by invitation in order to maximize effectiveness. Members of the public are welcome to submit comments and suggestions through August 20, 2019, to ncvhsmail@cdc.gov. Please refer to the posted agenda at www.ncvhs.hhs.gov for updates.

Contact Persons for More Information: Substantive program information may be obtained from Rebecca Hines, MHS, Executive Secretary, NCVHS, National Center for Health Statistics, Centers for Disease Control and Prevention, 3311 Toledo Road, Hyattsville, Maryland 20782, telephone (301) 458-4715. To obtain information pertaining to meeting content, contact Geanelle G. Herring, MSW, (410) 786-4466; Centers for Medicare & Medicaid Services, Office of Information Technology, Division of National Standards, 7500 Security Boulevard, Baltimore, Maryland, 21244 and/or Lorraine Doo, MSWA, MPH, (410) 786-6597. Summaries of past meetings and a roster of Committee members are available on the NCVHS website: www.ncvhs.hhs.gov where further information, including an agenda and instructions to access the live audio broadcast of the meeting, will also be posted.

Should you require reasonable accommodation, please contact the CDC Office of Equal Employment Opportunity on (770) 488-3210 as soon as possible.

Dated: May 2, 2019.
Sharon Arnold,
Associate Deputy Assistant Secretary for Planning and Evaluation, Science and Data Policy, Office of the Assistant Secretary for Planning and Evaluation.

[FR Doc. 2019-09460 Filed 5-7-19; 8:45 am]

BILLING CODE 4151-05-P